SMALL BUSINESS ADMINISTRATION

[Disaster Declaration #17114 and #17115; Tennessee Disaster Number TN-00130]

Presidential Declaration Amendment of a Major Disaster for the State of Tennessee

AGENCY: U.S. Small Business Administration.

ACTION: Amendment 1.

SUMMARY: This is an amendment of the Presidential declaration of a major disaster for the State of Tennessee (FEMA-4609-DR), dated 08/23/2021.

Incident: Severe Storm and Flooding.

Incident Period: 08/21/2021.

DATES: Issued on 08/25/2021.

Physical Loan Application Deadline Date: 10/22/2021.

Economic Injury (EIDL) Loan Application Deadline Date: 05/23/2022.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: The notice of the President's major disaster declaration for the State of Tennessee, dated 08/23/2021, is hereby amended to include the following areas as adversely affected by the disaster:

Primary Counties (Physical Damage and Economic Injury Loans): Dickson, Hickman, Houston.

Contiguous Counties (Economic Injury Loans Only):

Tennessee: Cheatham, Lewis, Maury, Montgomery, Stewart, Williamson.

All other information in the original declaration remains unchanged.

(Catalog of Federal Domestic Assistance Number 59008)

James Rivera,
Associate Administrator for Disaster Assistance.

[FR Doc. 2021-18731 Filed 8-30-21; 8:45 am]

BILLING CODE 8026-03-P